ENVIRONMENTAL PROTECTION AGENCY

[FRL-9610-6]

Clean Water Act Section 303(d): Availability of One Total Maximum Daily Load (TMDL) in Louisiana

AGENCY: Environmental Protection Agency (EPA).

ACTION: Notice of availability.

SUMMARY: This notice announces the availability for comment on the administrative record files and the calculations of one TMDL prepared by EPA Region 6. This notice covers waters in the State of Louisiana's Lake Pontchartrain Basin that were identified as impaired on the State's Section 303(d) list. This TMDL was completed in response to a court order in the lawsuit styled Sierra Club, et al. v. Clifford, et al., No. 96-0527, (E.D. La.).

DATES: Comments must be submitted in writing to EPA on or before February 6, 2012.

ADDRESSES: Comments on the one TMDL should be sent to Diane Smith, Environmental Protection Specialist, Water Quality Protection Division, U.S. Environmental Protection Agency Region 6, 1445 Ross Ave., Dallas, TX 75202-2733 or email: smith.diane@epa.gov. For further information, contact Diane Smith at (214) 665-2145 or fax 214.665.7373. The administrative record file for the one TMDL is available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that the EPA failed to establish Louisiana TMDLs in a timely manner. The EPA proposes this one TMDL pursuant to a consent decree entered in this lawsuit.

EPA Seeks Comment on One TMDL

By this notice the EPA is seeking comment on the following one TMDL for waters located within Louisiana:

Subsegment | Waterbody name | Pollutant
041401 | New Orleans East Leveed Waterbodies (Estuarine) | Dissolved oxygen.

The EPA requests the public provide to the EPA any water quality related data and information that may be relevant to the calculations for the one TMDL. The EPA will review all data and information submitted during the public comment period and will revise the TMDL where appropriate. The EPA will then forward the TMDL to the Louisiana Department of Environmental Quality (LDEQ). The LDEQ will incorporate the TMDL into its current water quality management plan.

Dated: December 14, 2011.
William K. Honker,
Acting Director, Water Quality Protection Division, EPA Region 6.

[FR Doc. 2011-33005 Filed 12-22-11; 8:45 am]

BILLING CODE 6560-50-P